FEDERAL COMMUNICATIONS COMMISSION

47 CFR Part 90

[WT Docket No. 01-146; RM-9966; FCC 01-199]

Amendment of Part 90 of the Commission's Rules and Policies for Applications and Licensing of Low Power Operations in the Private Land Mobile Radio 450-470 MHz Band

AGENCY: Federal Communications Commission.

ACTION: Proposed rule.

SUMMARY: This document proposes changes to the Commission's Rules concerning low power operations in the private land mobile radio (PLMR) 450-470 MHz band. Many of these proposals reflect a consensus plan and are intended to address a diversity of low power communication requirements.

DATES: Comments are due on or before October 12, 2001; reply comments are due on or before November 13, 2001.

ADDRESSES: Comments should be filed to the Commission's Secretary, Magalie Roman Salas, Office of Secretary, Federal Communications Commission, 445 12th St., SW., Room TW-A325, Washington, DC 20554. Comments may also be filed using the Commission's Electronic Filing System, which can be accessed via the Internet at www.fcc.gov/e-file/ecfs.html.

FOR FURTHER INFORMATION CONTACT: Guy Benson, Esq. (202) 418-2946, <gbenson@fcc.gov>, Public Safety and Private Wireless Division, Wireless Telecommunications Bureau.

SUPPLEMENTARY INFORMATION: This is a summary of the Commission's Notice of Proposed Rule Making, (NPRM), FCC 01-199 in WT Docket No. 01-146, adopted on July 2, 2001, and released on July 24, 2001. The full text of this document is available for public inspection and copying during regular business hours at the FCC Reference Information Center, Portals II, 445 12th Street, SW., Room CY-A257, Washington, DC 20554. This document may also be purchased from the Commission's duplicating contractor, Qualex International, Portals II, 445 12th Street, SW, Room CY-B402, Washington, DC, 20554, telephone 202-863-2893, facsimile 202-863-2898, or via e-mail qualexint@aol.com. The full text may also be downloaded at: www.fcc.gov. Alternative formats are available to persons with disabilities by contacting Brian Millin at (202) 418-7426 or TTY (202) 418-7365, bmillin@fcc.gov.

Summary of the Notice of Proposed Rule Making

1. Section 90.267 of the Commission's Rules provides that any regularly assignable channel in the 450-470 MHz PLMR band may be designated by the frequency coordinators as a low power channel in a defined geographic area. Low power stations authorized under this section are limited to two (2) watts output power. The Low Power Plan currently in effect designates 104 “12.5 kHz offset” channel pairs (hereinafter “channel pairs”) for low power operation nationwide: ninety (90) in the Industrial/Business Pool and fourteen (14) in the Public Safety Pool. The 6.25 kHz “drop in” channels directly adjacent to each designated 12.5 kHz channel are also designated for low power use.

2. On September 11, 2000, the Land Mobile Communications Council (LMCC) filed a Petition for Rule Making requesting the commencement of a proceeding to consider revisions to the Commission's Rules and policies for low power operations in the 450-470 MHz band. The LMCC is a non-profit association of organizations representing virtually all users of land mobile radio systems, providers of land mobile services, and manufacturers of land mobile radio equipment. LMCC's membership includes all of the Commission's certified part 90 frequency coordinators. The Petition for Rule Making reflects the LMCC's Consensus Plan for low power PLMR frequencies in 450-470 MHz band. This Notice of Proposed Rule Making seeks comment on the proposals set forth in the LMCC's Petition as well as other matters related to low power operations in the private land mobile radio (PLMR) 450-470 MHz band.

3. For the ninety (90) Industrial/Business Pool channel pairs, the Commission proposes to adopt the LMCC's proposal to divide these channel pairs into four groups (A, B, C and D) each with differing technical and operational limitations. Group A consisting of fifty (50) channel pairs, would be allowed a maximum power of 20 watts ERP for base stations and 5 watts total power output (TPO) for mobile/portable units. In addition, antenna height for fixed stations would be restricted to 23 meters (75 feet above ground level). Forty (40) of the fifty (50) channel pairs in Group A would be designated for low power use only within 80 km (50 miles) of the top 100 urban areas. Outside of these areas, the 40 channel pairs would be available for use at higher power limits. The ten (10) remaining Group A channel pairs would be designated nationwide for low power (20 watts/5 watts) operation, and would not be available for higher power use outside the top 100 urban areas. The Commission seeks comment as to, where higher power is proposed outside the top 100 urban areas, whether an intermediate power (such as 21-100 watts) should be considered instead. The Commission also seeks comment on how to define the top 100 urban areas.

4. Additionally, the Commission seeks comment on whether to amend the rules so that ten (10) Industrial/Business Pool channel pairs (Group B) would be restricted to low power non-voice operations, and whether voice operations should be allowed on a secondary, non-interfering basis to data.

5. The Commission also seeks comment on whether to amend the rules so that twenty-five (25) channel pairs (Group C) would be available for non-coordinated, itinerant use. Four of the frequencies that LMCC suggested for Group C, however, are currently designated under 47 C.F.R. part 90 for dockside operations on a primary basis. These four frequencies are authorized for mobile operation for radio remote control and telemetering functions, and also may be operated in the continuous carrier transmit mode. We do not believe that sharing between these currently authorized uses and the proposed non-coordinated, itinerant operations is advisable due to the potential for harmful interference. Consequently, we seek comment as to what alternate channels might replace the four frequencies listed by LMCC. Also, the Commission tentatively concludes that ten channel pairs that LMCC suggested for Group C should not be made available for such itinerant use until the end of the wireless medical telemetry transition period (October 2003).

6. The Commission also seeks comment on LMCC's suggestion to retain current rules for the five (5) channel pairs that comprise Group D. Current rules designate these channels, in all areas or specified areas of the nation, for central station alarm use.

7. For the fourteen (14) Public Safety Pool channel pairs, the Commission seeks comment on whether to amend the rules to increase the maximum operating power for the fourteen (14) channel pairs allocated to the Public Safety Pool to five (5) watts TPO.

8. The Commission seeks comment on a number of issues related to LMCC's Petition/Consensus Plan and the Commission's low power rules and policies. For example, comment is sought on whether to amend the rules to codify the Consensus Plan. We also ask questions about whether to use “effective radiated power” or “total power output” for power limitations. The Commission seeks comment on whether to amend the rules to limit low power, non-voice communications to the ten channels in Group B, and whether Group A and/or C channels should be designated primarily for voice operations, with non-voice operations authorized on a secondary basis in either group.

9. Finally, the Commission seeks comment on how to treat entities licensed for high power operation (as well as other incumbents) on the channel pairs that are specifically designated for low power operation.

Regulatory Flexibility Act

10. As required by the Regulatory Flexibility Act (RFA), the Commission has prepared an Initial Regulatory Flexibility Analysis (IRFA) of the expected impact on small entities of the policies and rules proposed in the Notice of Proposed Rule Making. Written public comments are requested on the IRFA. Comments must be identified as responses to the IRFA and must be filed by the deadlines for comments on this Notice of Proposed Rule Making.

Reason for, and Objectives of, the R&O

11. The Commission tasked the PLMR frequency coordinators to develop a plan for low power operations, through industry consensus, on what was formerly known as the 450-470 MHz low power offset channels. On June 4, 1997, the Land Mobile Communications Council (LMCC) filed this plan (Consensus Plan). Because the LMCC's Consensus Plan required changes to the Commission's Rules, on September 11, 2000, the LMCC submitted a petition for rule making in which it asks the Commission to adopt these rule changes. Therefore, the Commission proposes to amend part 90 of its rules in order to effectuate the changes suggested in the Consensus Plan.

12. These rule changes are needed in order to facilitate the viability of important low power operations in the 450-470 MHz band. Previously, low power operators were licensed on channels that were 12.5 kHz removed from regularly assignable channels in this band (“12.5 kHz offset channels”). These offset channels, however, were reclassified by the Commission for high power operation. Because of the continuing need for low power channels, we believe that implementation of the rule changes proposed in this Notice is in the public interest.

Legal Basis

13. Authority for the proposed rules included in this issuance of this Notice is contained in Sections 1, 4(i), 302, 303(f), and (r), and 332 of the Communications Act of 1934, as amended, 47 U.S.C. §§ 1, 154(i), 302, 303(f) and (r), and 332.

Description and Estimate of the Number of Small Entities to Which the Rules Will Apply

14. The RFA directs agencies to provide a description of, and, where feasible, an estimate of the number of small entities that may be affected by the proposed rules, if adopted. The RFA defines the term “small entity” as having the same meaning as the terms “small business,” “small organization,” and “small business concern” under section 3 of the Small Business Act. A small business concern is one which: (1) Is independently owned and operated; (2) is not dominant in its field of operation; and (3) satisfies any additional criteria established by the SBA. Nationwide, as of 1992, there were approximately 275,801 small organizations. “Small governmental jurisdiction” generally means “governments of cities, counties, towns, townships, villages, school districts, or special districts, with a population of less than 50,000.” As of 1992, there were approximately 85,006 such jurisdictions in the United States. This number includes 38,978 counties, cities, and towns; of these, 37,566, or ninety-six percent, have populations of fewer than 50,000. The Census Bureau estimates that this ratio is approximately accurate for all governmental entities. Thus, of the 85,006 governmental entities, we estimate that 81,600 (ninety-one percent) are small entities. Below, we further describe and estimate the number of small entity licensees and regulatees that may be affected by the proposed rules, if adopted.

15. Public Safety radio services and Governmental entities. As a general matter, Public Safety Radio Pool licensees include police, fire, local government, forestry conservation, highway maintenance, and emergency medical services. The SBA rules contain a definition for small radiotelephone (wireless) companies, which encompasses business entities engaged in radiotelephone communications employing no more that 1,500 persons. There are a total of approximately 127,540 licensees within these services. Governmental entities as well as private businesses comprise the licensees for these services. The RFA also includes small governmental entities as a part of the regulatory flexibility analysis. “Small governmental jurisdiction” generally means “governments of cities, counties, towns, townships, villages, school districts, or special districts, with a population of less than 50,000.” As of 1992, there were approximately 85,006 such jurisdictions in the United States. This number includes 38,978 counties, cities and towns; of these, 37,566, or 96 percent, have populations of fewer than 50,000. The Census Bureau estimates that this ratio is approximately accurate for all governmental entities. Thus, of the 85,006 governmental entities, the Commission estimates that 81,600 (91 percent) are small entities.

16. Estimates for PLMR Licensees. Private land mobile radio systems serve an essential role in a vast range of industrial, business, land transportation, and public safety activities. These radios are used by companies of all sizes operating in all U.S. business categories. Because of the vast array of PLMR users, the Commission has not developed a definition of small entities specifically applicable to PLMR users, nor has the SBA developed any such definition. The SBA rules do, however, contain a definition for small radiotelephone (wireless) companies. Included in this definition are business entities engaged in radiotelephone communications employing no more that 1,500 persons. According to the Bureau of the Census, only twelve radiotelephone firms of a total of 1,178 such firms which operated during 1992 had 1,000 or more employees. For the purpose of determining whether a licensee is a small business as defined by the SBA, each licensee would need to be evaluated within its own business area. The Commission's fiscal year 1994 annual report indicates that, at the end of fiscal year 1994, there were 1,101,711 licensees operating 12,882,623 transmitters in the PLMR bands below 512 MHz.

17. Equipment Manufacturers. The Commission anticipates that radio equipment manufacturers will be affected by the proposals in this proceeding. According to the SBA's regulations, a radio and television broadcasting and communications equipment manufacturer must have 750 or fewer employees in order to qualify as a small business concern. Census Bureau data indicate that there are 858 U.S. firms that manufacture radio and television broadcasting and communications equipment, and that 778 of these firms have fewer than 750 employees and would therefore be classified as small entities.

Reporting, Recordkeeping, and Other Compliance Requirements

18. Reporting, record keeping, and compliance requirements under these proposed rules are nominal. No new reporting, recordkeeping, or other compliance requirements would be imposed on applicants or licensees as a result of the actions proposed in this rule making proceeding.

Steps Taken to Minimize Significant Economic Impact on Small Entities, and Significant Alternatives Considered

19. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule or any part thereof for small entities.

20. Regarding the proposal to increase the power limits and antenna height for low power users operating on the fifty channels in Group A, there should be no significant adverse impact on small entities. Although increasing the power and antenna height limits for low power users on these channels could decrease the number of operators possible in a given area, the Commission believes that the need for higher power and antenna height on these channels outweighs the potential losses. An alternative to this proposal would be to maintain the current power restriction of 2 watts output power and 7 meters antenna height, or impose power limitations less than 20 watts for base stations and 5 watts for mobile/portable stations and less than 23 meters antenna height above ground level. These alternatives, however, would not address the need, especially in hostile communications areas, for more than 2 watts output power and antenna heights of 7 meters.

21. In addition, regarding the proposal to designate 25 channels for low power, itinerant use in Group C, incumbent licensees, some of which may be small entities, could face interference from itinerant users that will not be required to coordinate their operations through a certified frequency coordinator. Such potential interference, however, is balanced against the need for itinerant operations in the PLMR services. In this connection, small businesses that require itinerant operations will be eligible for these channels and may benefit from the proposal. Although comment is sought as to how to treat incumbents generally in Group C, commenters should specifically discuss those incumbents that are considered to be small businesses.

22. Regarding the proposal to require manufacturers of radios that are capable of working on these Group C channels to construct the radios so that they only work on these 25 channels and other UHF color dot and star dot frequencies, there should be no significant adverse impact on small entities. An alternative to this proposal would be to not require manufacturers to construct the radios so as to limit the frequencies that they are capable of working on. This alternative would not, however, help protect full power coordinated channels from additional co-channel conflicts that might occur from uncoordinated users.

23. Regarding the proposal to allow 5 watts ERP for the fourteen channels in the Public Safety Pool, there should be no significant adverse impact on small entities. An alternative to this proposal would be to maintain the current limitation of 2 watts output power or to impose a power limitation of less than 5 watts ERP. Neither of these alternatives, however, would be sufficient to promote flexibility for Public Safety Pool licensees that require more than 2 watts output power for their operations.

24. Finally, comment is sought on how the changes proposed in the Notice will effect small entities.

Report to Congress

25. The Commission will send a copy of the NPRM, including this IRFA, in a report to be sent to Congress pursuant to the Small Business Regulatory Enforcement Fairness Act of 1996. In addition, the Commission will send a copy of the NPRM, including the IRFA, to the Chief Counsel for Advocacy of the Small Business Administration. A copy of the NPRM and IRFA (or summaries thereof) will also be published in the Federal Register.

Administrative Matters

Ex Parte Rules—Permit-but-Disclose Proceeding

26. This is a permit-but-disclose notice and comment rulemaking proceeding. Ex parte presentations are permitted, except during the Sunshine Agenda period, if they are disclosed as provided in the Commission's Rules. See generally 47 CFR 1.1200(a), 1.1203, and 1.1206.

Alternative Formats

27. Alternative formats (computer diskette, large print, audio cassette and Braille) are available from Brian Millin at (202) 418-7426, TTY (202) 418-7365, or at bmillin@fcc.gov. This Notice can also be downloaded at http://www.fcc.gov/dtf/.

Pleading Dates

28. Pursuant to Sections 1.415 and 1.419 of the Commission's rules, 47 CFR 1.415 and 1.419, interested parties may file comments on or before October 12, 2001 and reply comments on or before November 13, 2001. Comments may be filed using the Commission's Electronic Comment Filing System (ECFS), http://www.fcc.gov/e-file/ecfs.html, or by filing paper copies. See Electronic Filing of Documents in Rulemaking Proceedings, 63 Fed. Reg. 23,121 (1998).

29. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

30. Parties who choose to file by paper must file an original and four copies of each filing. If more than one docket or rulemaking number appear in the caption of this proceeding, commenters must submit two additional copies for each additional docket or rulemaking number. All filings must be sent to the Commission's Secretary, Magalie Roman Salas, Office of the Secretary, Federal Communications Commission, 445 Twelfth Street, S.W., TW-A325, Washington, D.C. 20554.

Ordering Clauses

31. Accordingly, It is ordered that, pursuant to Sections 1, 4(i), 302, 303(f) and (r), and 332 of the Communications Act of 1934, as amended, 47 U.S.C. 1, 154(i), 302, 303(f) and (r), 332, the Petition for Rule Making filed by the Land Mobile Communications Council on September 11, 2000, Is Granted to the extent indicated herein.

32. It Is Further Ordered that, pursuant to Sections 1, 4(i), 302, 303(f) and (r), and 332 of the Communications Act of 1934, as amended, 47 U.S.C. 1, 154(i), 302, 303(f) and (r), 332, Notice is Hereby given of the proposed regulatory changes described in this Notice of Proposed Rule Making, and that Comment Is Sought on these proposals.

33. It Is Further Ordered that the Commission's Consumer Information Bureau, Reference Information Center, Shall Send a copy of this Notice of Proposed Rule Making, WT Docket No. 01-146, including the Initial Regulatory Flexibility Analysis, to the Chief Counsel for Advocacy of the Small Business Administration in accordance with Section 603(a) of the Regulatory Flexibility Act.

List of Subjects in 47 CFR Part 90

Communications equipment, Radio

Federal Communications Commission.
Magalie Roman Salas,
Secretary.

For reasons discussed in the preamble, the Federal Communications Commission proposes to amend 47 CFR part 90 as follows:

PART 90—PRIVATE LAND MOBILE RADIO SERVICES

1. The authority citation for Part 90 continues to read as follows:

Authority: Sections 4(i), 11, 303(g), 303(r) and 332(c)(7) of the Communications Act of 1934, as amended, 47 U.S.C. 154(i), 161, 303(g), 303(r), 332(c)(7).

2. Section 90.20 is amended as follows:

A. The table in paragraph (c)(3) is amended by revising the entries for the following frequencies to include new limitation number 84 (Note: In the final rule, we will set out the full entry for each frequency listed):

§ 90.20 Public Safety Pool.

* * * * *

(c) * * *

(3) * * *

453.03125 MHz, 453.0375 MHz, 453.04375 MHz, 453.05625 MHz, 453.0625 MHz, 453.06875 MHz, 453.08125 MHz, 453.0875 MHz, 453.09375 MHz, 453.10625 MHz, 453.1125 MHz, 453.11875 MHz, 453.13125 MHz, 453.1375 MHz, 453.14375 MHz, 453.88125 MHz, 453.8875 MHz, 453.89375 MHz, 453.90625 MHz, 453.9125 MHz, 453.91875 MHz, 453.93125 MHz, 453.9375 MHz, 453.94375 MHz, 453.95625 MHz, 453.9625 MHz, 453.96875 MHz, 453.98125 MHz, 453.9875 MHz, 453.99375 MHz, 458.03125 MHz, 458.0375 MHz, 458.04375 MHz, 458.05625 MHz, 458.0625 MHz, 458.06875 MHz, 458.08125 MHz, 458.0875 MHz, 458.09375 MHz, 458.10625 MHz, 458.1125 MHz, 458.11875 MHz, 458.13125 MHz, 458.1375 MHz, 458.14375 MHz, 458.88125 MHz, 458.8875 MHz, 458.89375 MHz, 458.90625 MHz, 458.9125 MHz, 458.91875 MHz, 458.93125 MHz, 458.9375 MHz, 458.94375 MHz, 458.95625 MHz, 458.9625 MHz, 458.96875 MHz, 458.98125 MHz, 458.9875 MHz, 458.99375 MHz, 460.48125 MHz, 460.4875 MHz, 460.49375 MHz, 460.50625 MHz, 460.5125 MHz, 460.51875 MHz, 460.53125 MHz, 460.5375 MHz, 460.54375 MHz, 460.55625 MHz, 460.5625 MHz, 460.56875 MHz, 465.48125 MHz, 465.4875 MHz, 465.49375 MHz, 465.50625 MHz, 465.5125 MHz, 465.51875 MHz, 465.53125 MHz, 465.5375 MHz, 465.54375 MHz, 465.55625 MHz, 465.5625 MHz, 465.56875 MHz.

B. A new paragraph (d)(84) is added to read as follows:

§ 90.20 Public Safety Pool.

* * * * *

(d) * * *

(84) These frequencies are low power frequencies governed by § 90.267.

3. Section 90.35(b)(3) is amended as follows:

§ 90.35 Industrial/Business Pool.

A. The table in paragraph (b)(3) is amended by revising the entries for the following frequencies to include new limitation number 83 (Note: In the final rule, we will set out the full entry for each frequency listed):

451.18125 MHz, 451.1875 MHz, 451.19375 MHz, 451.23125 MHz, 451.2375 MHz, 451.24375 MHz, 451.28125 MHz, 451.2875 MHz, 451.29375 MHz, 451.30625 MHz, 451.3125 MHz, 451.31875 MHz, 451.33125 MHz, 451.3375 MHz, 451.34375 MHz, 451.35625 MHz, 451.3625 MHz, 451.36875 MHz, 451.38125 MHz, 451.3875 MHz, 451.39375 MHz, 451.40625 MHz, 451.4125 MHz, 451.41875 MHz, 451.43125 MHz, 451.4375 MHz, 451.44375 MHz, 451.45625 MHz, 451.4625 MHz, 451.46875 MHz, 451.48125 MHz, 451.4875 MHz, 451.49375 MHz, 451.50625 MHz, 451.5125 MHz, 451.51875 MHz, 451.53125 MHz, 451.5375 MHz, 451.54375 MHz, 451.55625 MHz, 451.5625 MHz, 451.56875 MHz, 451.58125 MHz, 451.5875 MHz, 451.59375 MHz, 451.60625 MHz, 451.6125 MHz, 451.61875 MHz, 451.63125 MHz, 451.6375 MHz, 451.64375 MHz, 451.65625 MHz, 451.6625 MHz, 451.66875 MHz, 451.68125 MHz, 451.6875 MHz, 451.69375 MHz, 451.70625 MHz, 451.7125 MHz, 451.71875 MHz, 451.73125 MHz, 451.7375 MHz, 451.74375 MHz, 451.75625 MHz, 451.7625 MHz, 451.76875 MHz, 452.03125 MHz, 452.0375 MHz, 452.04375 MHz, 452.05625 MHz, 452.0625 MHz, 452.06875 MHz, 452.08125 MHz, 452.0875 MHz, 452.09375 MHz, 452.10625 MHz, 452.1125 MHz, 452.11875 MHz, 452.13125 MHz, 452.1375 MHz, 452.14375 MHz, 452.15625 MHz, 452.1625 MHz, 452.16875 MHz, 452.18125 MHz, 452.1875 MHz, 452.19375 MHz, 452.28125 MHz, 452.2875 MHz, 452.29375 MHz, 452.30625 MHz, 452.3125 MHz, 452.31875 MHz, 452.40625 MHz, 452.4125 MHz, 452.41875 MHz, 452.48125 MHz, 452.4875 MHz, 452.49375 MHz, 452.50625 MHz, 452.5125 MHz, 452.51875 MHz, 452.53125 MHz, 452.5375 MHz, 452.54375 MHz,

452.63125 MHz, 452.6375 MHz, 452.64375 MHz, 452.65625 MHz, 452.6625 MHz, 452.66875 MHz, 452.68125 MHz, 452.6875 MHz, 452.69375 MHz, 452.70625 MHz, 452.7125 MHz, 452.71875 MHz, 452.75625 MHz, 452.7625 MHz, 452.76875 MHz, 452.78125 MHz, 452.7875 MHz, 452.79375 MHz, 452.80625 MHz, 452.8125 MHz, 452.81875 MHz, 452.83125 MHz, 452.8375 MHz, 452.84375 MHz, 452.85625 MHz, 452.8625 MHz, 452.86875 MHz, 452.88125 MHz, 452.8875 MHz, 452.89375 MHz, 452.98125 MHz, 452.9875 MHz, 452.99375 MHz, 456.18125 MHz, 456.1875 MHz, 456.19375 MHz, 456.23125 MHz, 456.2375 MHz, 456.24375 MHz, 456.28125 MHz, 456.2875 MHz, 456.29375 MHz, 456.30625 MHz, 456.3125 MHz, 456.31875 MHz, 456.33125 MHz, 456.3375 MHz, 456.34375 MHz, 456.35625 MHz, 456.3625 MHz, 456.36875 MHz, 456.38125 MHz, 456.3875 MHz, 456.39375 MHz, 456.40625 MHz, 456.4125 MHz, 456.41875 MHz, 456.43125 MHz, 456.4375 MHz, 456.44375 MHz, 456.45625 MHz, 456.4675 MHz, 456.46875 MHz, 456.48125 MHz, 456.4875 MHz, 456.49375 MHz, 456.50625 MHz, 456.5125 MHz, 456.51875 MHz, 456.53125 MHz, 456.5375 MHz, 456.54375 MHz, 456.55625 MHz, 456.5625 MHz, 456.56875 MHz, 456.58125 MHz, 456.5875 MHz, 456.59375 MHz, 456.60625 MHz, 456.6125 MHz, 456.61875 MHz, 456.63125 MHz, 456.6375 MHz, 456.64375 MHz, 456.65625 MHz, 456.6625 MHz, 456.66875 MHz, 456.68125 MHz, 456.6875 MHz, 456.69375 MHz, 456.70625 MHz, 456.7125 MHz, 456.71875 MHz, 456.73125 MHz, 456.7375 MHz, 456.74375 MHz, 456.75625 MHz, 456.7625 MHz, 456.76875 MHz, 457.03125 MHz, 457.0375 MHz, 457.04375 MHz, 457.05625 MHz, 457.0625 MHz, 457.06875 MHz,

457.08125 MHz, 457.0875 MHz, 457.09375 MHz, 457.10625 MHz, 457.1125 MHz, 457.11875 MHz, 457.13125 MHz, 457.1375 MHz, 457.14375 MHz, 457.15625 MHz, 457.1625 MHz, 457.16875 MHz, 457.18125 MHz, 457.1875 MHz, 457.19375 MHz, 457.28125 MHz, 457.2875 MHz, 457.29375 MHz, 457.30625 MHz, 457.3125 MHz, 457.31875 MHz, 457.40625 MHz, 457.4125 MHz, 457.41875 MHz, 457.48125 MHz, 457.4875 MHz, 457.49375 MHz, 457.50625 MHz, 457.5125 MHz, 457.51875 MHz, 457.53125 MHz, 457.5375 MHz, 457.54375 MHz, 457.63125 MHz, 457.6375 MHz, 457.64375 MHz, 457.65625 MHz, 457.6625 MHz, 457.66875 MHz, 457.68125 MHz, 457.6875 MHz, 457.69375 MHz, 457.70625 MHz, 457.7125 MHz, 457.71875 MHz, 457.75625 MHz, 457.7625 MHz, 457.76875 MHz, 457.78125 MHz, 457.7875 MHz, 457.79375 MHz, 457.80625 MHz, 457.8125 MHz, 457.81875 MHz, 457.83125 MHz, 457.8375 MHz, 457.84375 MHz, 457.85625 MHz, 457.8625 MHz, 457.86875 MHz, 457.88125 MHz, 457.8875 MHz, 457.89375 MHz, 457.98125 MHz, 457.9875 MHz, 457.99375 MHz, 460.90625 MHz, 460.9125 MHz, 460.91875 MHz, 460.93125 MHz, 460.9375 MHz, 460.94375 MHz, 460.95625 MHz, 460.9625 MHz, 460.96875 MHz, 460.98125 MHz, 460.9875 MHz, 460.99375 MHz, 461.00625 MHz, 461.0125 MHz, 461.01875 MHz, 461.03125 MHz, 461.0375 MHz, 461.04375 MHz, 461.05625 MHz, 461.0625 MHz, 461.06875 MHz, 461.08125 MHz, 461.0875 MHz, 461.09375 MHz, 461.10625 MHz, 461.1125 MHz, 461.11875 MHz, 461.13125 MHz, 461.1375 MHz, 461.14375 MHz, 461.15625 MHz, 461.1625 MHz, 461.16875 MHz, 461.18125 MHz, 461.1875 MHz, 461.19375 MHz, 461.20625 MHz, 461.2125 MHz, 461.21875 MHz,

461.23125 MHz, 461.2375 MHz, 461.24375 MHz, 461.25625 MHz, 461.2625 MHz, 461.26875 MHz, 461.28125 MHz, 461.2875 MHz, 461.29375 MHz, 461.30625 MHz, 461.3125 MHz, 461.31875 MHz, 461.33125 MHz, 461.3375 MHz, 461.34375 MHz, 461.35625 MHz, 461.3625 MHz, 461.36875 MHz, 462.18125 MHz, 462.1875 MHz, 462.19375 MHz, 462.20625 MHz, 462.2125 MHz, 462.21875 MHz, 462.23152 MHz, 462.2375 MHz, 462.24375 MHz, 462.25625 MHz, 462.2625 MHz, 462.26875 MHz, 462.28125 MHz, 462.2875 MHz, 462.29375 MHz, 462.30625 MHz, 462.3125 MHz, 462.31875 MHz, 462.33125 MHz, 462.3375 MHz, 462.34375 MHz, 462.35625 MHz, 462.3625 MHz, 462.36875 MHz, 462.38125 MHz, 462.3875 MHz, 462.39375 MHz, 462.40625 MHz, 462.4125 MHz, 462.41875 MHz, 462.43125 MHz, 462.4375 MHz, 462.44375 MHz, 462.45625 MHz, 462.4625 MHz, 462.46875 MHz, 462.48125 MHz, 462.4875 MHz, 462.49375 MHz, 462.50625 MHz, 462.5125 MHz, 462.51875 MHz, 462.8625 MHz, 462.8875 MHz,

462.9125 MHz, 464.48125 MHz, 464.4875 MHz, 464.5125 MHz, 464.51875 MHz, 464.53125 MHz, 464.5375 MHz, 464.5625 MHz, 464.56875 MHz, 465.90625 MHz, 465.9125 MHz, 465.91875 MHz, 465.93125 MHz, 465.9375 MHz, 465.94375 MHz, 465.95625 MHz, 465.9625 MHz, 465.96875 MHz, 465.98125 MHz, 465.9875 MHz, 465.99375 MHz, 466.00625 MHz, 466.0125 MHz, 466.01875 MHz, 466.03125 MHz, 466.0375 MHz, 466.04375 MHz, 466.05625 MHz, 466.0625 MHz, 466.06875 MHz, 466.08125 MHz, 466.0875 MHz, 466.09375 MHz, 466.10625 MHz, 466.1125 MHz, 466.11875 MHz, 466.13125 MHz, 466.1375 MHz, 466.14375 MHz, 466.15625 MHz, 466.1625 MHz, 466.16875 MHz, 466.18125 MHz,

466.1875 MHz, 466.19375 MHz, 466.20625 MHz, 466.2125 MHz, 466.21875 MHz, 466.23125 MHz, 466.2375 MHz, 466.24375 MHz, 466.25625 MHz, 466.2625 MHz, 466.26875 MHz, 466.28125 MHz, 466.2875 MHz, 466.29375 MHz, 466.30625 MHz, 466.3125 MHz, 466.31875 MHz, 466.33125 MHz, 466.3375 MHz, 466.34375 MHz, 466.35625 MHz, 466.3625 MHz, 466.36875 MHz, 467.18125 MHz, 467.1875 MHz, 467.19375 MHz, 467.20625 MHz, 467.2125 MHz, 467.21875 MHz, 467.23152 MHz, 467.2375 MHz, 467.24375 MHz, 467.25625 MHz, 467.2625 MHz, 467.26875 MHz, 467.28125 MHz, 467.2875 MHz, 467.29375 MHz, 467.30625 MHz, 467.3125 MHz, 467.31875 MHz, 467.33125 MHz, 467.3375 MHz, 467.34375 MHz, 467.35625 MHz, 467.3625 MHz, 467.36875 MHz, 467.38125 MHz, 467.3875 MHz, 467.39375 MHz, 467.40625 MHz, 467.4125 MHz, 467.41875 MHz, 467.43125 MHz, 467.4375 MHz, 467.44375 MHz, 467.45625 MHz, 467.4675 MHz, 467.46875 MHz, 467.48125 MHz, 467.4875 MHz, 467.49375 MHz, 467.50625 MHz, 467.5125 MHz, 467.51875 MHz, 467.8625 MHz, 467.8875 MHz, 467.9125 MHz, 469.48125 MHz, 469.4875 MHz, 469.5125 MHz, 469.51875 MHz, 469.53125 MHz, 469.5375 MHz, 469.5625 MHz, 469.56875 MHz.

B. A new paragraph (c)(83) is added to read as follows:

§ 90.35 Industrial/business pool.

* * * * *

(c) * * *

(83) These frequencies are low power frequencies governed by § 90.267.

4. Section 90.35 is amended by revising paragraph (c)(67) to read as follows:

§ 90.35 Industrial/Business Pool.

* * * * *

(c) * * *

(67) Use of this frequency is on a secondary basis and subject to the provisions of § 90.267(a)(4), (a)(7), (a)(8) and (a)(9).

5. Section 90.203 is amended by adding paragraph (m) to read as follows:

§ 90.203 Certification required.

* * * * *

(m) Transmitters for use on low power itinerant channels must be certificated, in accordance with the provisions of Part 2 of the Commission's Rules, and designed so that their operation is limited to the frequencies listed in § 90.267(a)(4) and/or frequencies 464.500 MHz, 464.550 MHz, 467.850 MHz, 467.875 MHz, 467.900 MHz , and 467.925 MHz.

6. Section 90.267 is amended by revising paragraph (a) to read as follows:

§ 90.267 Assignment and use of frequencies in the 450-470 MHz band for low power use.

(a) The following frequencies between 450-470 MHz are designated for low-power use subject to the provisions of this section. Pairs are shown but single frequencies are available for simplex operations.

(1) Group A1 Frequencies. The Industrial/Business Pool frequencies listed in Group A1 are available on a coordinated basis, pursuant to § 90.35(b)(2) and § 90.175(b), as follows:

(i) Within 80 kilometers of the top [xxx] urban areas, operation on these frequencies is limited to 5 watts output power for mobile stations and 20 watts effective radiated power for fixed stations. A maximum antenna height of 23 meters (75 feet) above ground is authorized for fixed stations.

(ii) Outside 80 kilometers of the top [xxx] urban areas, operation on these frequencies is available for full power operation pursuant to the power and antenna height limits listed in § 90.205.

Industrial/Business Pool Group A1 Low Power Frequencies
451.18125 | 451.58125 | 452.10625 | 452.70625
456.18125 | 456.58125 | 457.10625 | 457.70625
451.1875 | 451.5875 | 452.1125 | 452.7125
456.1875 | 456.5875 | 457.1125 | 457.7125
451.19375 | 451.59375 | 452.11875 | 452.71875
456.19375 | 456.59375 | 457.11875 | 457.71875
451.28125 | 451.60625 | 452.13125 | 452.78125
456.28125 | 456.60625 | 457.13125 | 457.78125
451.2875 | 451.6125 | 452.1375 | 452.7875
456.2875 | 456.6125 | 457.1375 | 457.7875
451.29375 | 451.61875 | 452.14375 | 452.79375
456.29375 | 456.61875 | 457.14375 | 457.79375
451.30625 | 451.65625 | 452.15625 | 452.80625
456.30625 | 456.65625 | 457.15625 | 457.80625
451.3125 | 451.6625 | 452.1625 | 452.8125
456.3125 | 456.6625 | 457.1625 | 457.8125
451.31875 | 451.66875 | 452.16875 | 452.81875
456.31875 | 456.66875 | 457.16875 | 457.81875
451.35625 | 451.68125 | 452.18125 | 452.83125
456.35625 | 456.68125 | 457.18125 | 457.83125
451.3625 | 451.6875 | 452.1875 | 452.8375
456.3625 | 456.6875 | 457.1875 | 457.8375
451.36875 | 451.69375 | 452.19375 | 453.84375
456.36875 | 456.69375 | 457.19375 | 457.84375
451.38125 | 451.70625 | 452.28125 | 452.88125
456.38125 | 456.70625 | 457.28125 | 457.88125
451.3875 | 451.7125 | 452.2875 | 452.8875
456.3875 | 456.7125 | 457.2875 | 457.8875
451.39375 | 451.71875 | 452.29375 | 452.89375
456.39375 | 456.71875 | 457.29375 | 457.89375
451.40625 | 451.73125 | 452.48125 | 452.98125
456.40625 | 456.73125 | 457.48125 | 457.98125
451.4125 | 451.7375 | 452.4875 | 452.9875
456.4125 | 456.7375 | 457.4875 | 457.9875
451.41875 | 451.74375 | 452.49375 | 452.99375
456.41875 | 456.74375 | 457.49375 | 457.99375
451.45625 | 451.75625 | 452.53125 | 462.18125
456.45625 | 456.75625 | 457.53125 | 467.18125
451.4625 | 451.7625 | 452.5375 | 462.1875
456.4625 | 456.7625 | 457.5375 | 467.1875
451.46875 | 451.76825 | 452.54375 | 462.19375
456.46875 | 456.76875 | 457.54375 | 467.19375
451.48125 | 452.03125 | 452.63125 | 462.45625
456.48125 | 457.03125 | 457.63125 | 467.45625
451.4875 | 452.0375 | 452.6375 | 462.4625
456.4875 | 457.0375 | 457.6375 | 467.4625
451.49375 | 452.04375 | 452.64375 | 462.46875
456.49375 | 457.04375 | 457.64375 | 467.46875
451.50625 | 452.05625 | 452.65625 | 462.48125
456.50625 | 457.05625 | 457.65625 | 467.48125
451.5152 | 452.0625 | 452.6625 | 462.4875
456.5125 | 457.0625 | 457.6625 | 467.4875
451.51875 | 452.06875 | 452.66875 | 462.49375
456.51875 | 457.06875 | 457.66875 | 467.49375
451.55625 | 452.08125 | 452.68125 | 462.50625
456.55625 | 457.08125 | 457.68125 | 467.50625
451.5625 | 452.0875 | 452.6875 | 462.5125
456.5625 | 457.0875 | 457.6875 | 467.5125
451.56875 | 452.09375 | 452.69375 | 462.51875
456.56875 | 457.09375 | 457.69375 | 467.51875

(2) Group A2 Frequencies. The Industrial/Business Pool frequencies listed in Group A2 are available nationwide on a coordinated basis, pursuant to § 90.35(b)(2) and § 90.175(b). Operation on these frequencies is limited to 5 watts output power for mobile stations and 20 watts effective radiated power for fixed stations. A maximum antenna height of 23 meters (75 feet) above ground is authorized for fixed stations.

Industrial/Business Pool Group A2 Low Power Frequencies
451.23125 | 451.53125 | 452.40625 | 452.85625
456.23125 | 456.53125 | 457.40625 | 457.85625
451.2375 | 451.5375 | 452.4125 | 452.8625
456.2375 | 456.5375 | 457.4125 | 457.8625
451.24375 | 451.54375 | 452.41875 | 452.86875
456.24375 | 456.54375 | 457.41875 | 457.86875
451.33125 | 451.63125 | 452.50625
456.33125 | 456.63125 | 457.50625
451.3375 | 451.6375 | 452.5125
456.3375 | 456.6375 | 457.5125
451.34375 | 451.64375 | 452.51875
456.34375 | 456.64375 | 457.51875
451.43125 | 452.30625 | 452.75625
456.43125 | 457.30625 | 457.75625
451.4375 | 452.3125 | 452.7625
456.4375 | 457.3125 | 457.7625
451.44375 | 452.31875 | 452.76875
456.44375 | 457.31875 | 457.76875

(3) Group B Frequencies. The Industrial/Business Pool frequencies listed in Group B are available nationwide on a coordinated basis, pursuant to § 90.35(b)(2) and § 90.175(b), for data operations. Operation on these frequencies is limited to 2 watts output power for mobile or fixed stations. A maximum antenna height of 23 meters (75 feet) above ground is authorized for fixed stations.

Industrial/Business Pool Group B Low Power Frequencies
462.20625 | 462.28125 | 462.35625 | 462.43125
467.20625 | 467.28125 | 467.35625 | 467.43125
462.2125 | 462.2875 | 462.3625 | 462.4375
467.2125 | 467.2875 | 467.3625 | 467.4375
462.21875 | 462.29375 | 462.36875 | 462.44375
467.21875 | 467.29375 | 467.36875 | 467.44375
462.23152 | 462.30625 | 462.38125
467.23152 | 467.30625 | 467.38125
462.2375 | 462.3125 | 462.3875
467.2375 | 467.3125 | 467.3875
462.24375 | 462.31875 | 462.39375
467.24375 | 467.31875 | 467.39375
462.25625 | 462.33125 | 462.40625
467.25625 | 467.33125 | 467.40625
462.2625 | 462.3375 | 462.4125
467.2625 | 467.3375 | 467.4125
462.26875 | 462.34375 | 462.41875
467.26875 | 467.34375 | 467.41875

(4) Group C Frequencies. The Industrial/Business Pool frequencies listed in Group C are available nationwide for non-coordinated itinerant use. Operation on these frequencies is limited to 2 watts output power for mobile or fixed stations. A maximum antenna height of 7 meters (20 feet) above ground is authorized for fixed stations. The frequencies in Group C that are subject to the provisions of § 90.35(c)(67) will not be available for itinerant use until October 17, 2003.

Industrial/Business Pool Group C Low Power Frequencies
461.03125 | 461.15625 | 461.28125 |
466.03125 | 466.15625 | 466.28125 |
461.0375 | 461.1625 | 461.2875 | 462.8625
466.0375 | 466.1625 | 466.2875 | 467.8625
461.04375 | 461.16875 | 461.29375 | 462.8875
466.04375 | 466.16875 | 466.29375 | 467.8875
461.05625 | 461.18125 | 461.30625 | 462.9125
466.05625 | 466.18125 | 466.30625 | 467.9125
461.0625 | 461.1875 | 461.3125 | 464.48125
466.0625 | 466.1875 | 466.3125 | 469.48125
461.06875 | 461.19375 | 461.31875 | 464.4875
466.06875 | 466.19375 | 466.31875 | 469.4875
461.08125 | 461.20625 | 461.33125 | 464.5125
466.08125 | 466.20625 | 466.33125 | 469.5125
461.0875 | 461.2125 | 461.3375 | 464.51875
466.0875 | 466.2125 | 466.3375 | 469.51875
461.09375 | 461.21875 | 461.34375 | 464.53125
466.09375 | 466.21875 | 466.34375 | 469.53125
461.10625 | 461.23125 | 461.35625 | 464.5375
466.10625 | 466.23125 | 466.35625 | 469.5375
461.1125 | 461.2375 | 461.3625 | 464.5625
466.1125 | 466.2375 | 466.3625 | 469.5625
461.11875 | 461.24375 | 461.36875 | 464.56875
466.11875 | 466.24375 | 466.36875 | 469.56875
461.13125 | 461.25625
466.13125 | 466.25625
461.1375 | 461.2625
466.1375 | 466.2625
461.14375 | 461.26875
466.14375 | 466.26875

(5) Group D Frequencies. The Industrial/Business Pool frequencies listed in Group D are available for central station alarm operations in urban areas as defined in § 90.35(c)(63) and § 90.35(c)(64). Central alarm stations may utilize antennas mounted not more than 7 meters (20 feet) above a man-made supporting structure. Outside the urban areas described in § 90.35(c)(63), Group D frequencies are available for general industrial/business use on a coordinated basis, pursuant to § 90.35(b)(2) and § 90.175(b). Non-central station alarm operation on these frequencies is limited to 2 watts output power for mobile or fixed stations. Non-central station alarm stations are limited to a maximum antenna height of 7 meters (20 feet) above ground.

Industrial/Business Pool Group D Low Power Frequencies
460.90625 | 460.95625 | 461.00625
465.90625 | 465.95625 | 466.00625
460.9125 | 460.9625 | 461.0125
465.9125 | 465.9625 | 466.0125
460.91875 | 460.96875 | 461.01875
466.91875 | 465.96875 | 466.01875
460.93125 | 460.98125
465.93125 | 465.98125
460.9375 | 460.9875
465.9375 | 465.9875
460.94375 | 460.99375
465.94375 | 465.99375

(6) Low Power Public Safety Frequencies. The frequencies listed in the Public Safety Pool Low Power Group are available nationwide on a coordinated basis, pursuant to § 90.20(c)(2) and § 90.175(b). Operation on these frequencies is limited to 5 watts output power for mobile or fixed stations. A maximum antenna height of 7 meters (20 feet) above ground is authorized for fixed stations.

Public Safety Pool Low Power Frequencies
453.03125 | 453.13125 | 453.95625 | 460.53125
458.03125 | 458.13125 | 458.95625 | 465.53125
453.0375 | 453.1375 | 453.9625 | 460.5375
458.0375 | 458.1375 | 458.9625 | 465.5375
453.04375 | 453.14375 | 453.96875 | 460.54375
458.04375 | 458.14375 | 458.96875 | 465.54375
453.05625 | 453.88125 | 453.98125 | 460.55625
458.05625 | 458.88125 | 458.98125 | 465.55625
453.0625 | 453.8875 | 453.9875 | 460.5625
458.0625 | 458.8875 | 458.9875 | 465.5625
453.06875 | 453.89375 | 453.99375 | 460.56875
458.06875 | 458.89375 | 458.99375 | 465.56875
453.08125 | 453.90625 | 460.48125
458.08125 | 458.90625 | 465.48125
453.0875 | 453.9125 | 460.4875
458.0875 | 458.9125 | 465.4875
453.09375 | 453.91875 | 460.49375
458.09375 | 458.91875 | 465.49375
453.10625 | 453.93125 | 460.50625
458.10625 | 458.93125 | 465.50625
453.1125 | 453.9375 | 460.5125
458.1125 | 458.9375 | 465.5125
453.11875 | 453.94375 | 460.51875
458.11875 | 458.94375 | 465.51875

(7) Wide area operations will not be authorized. The area of normal day-to-day operations will be described in the application in terms of maximum distance from a geographic center (latitude and longitude).

(8) A hospital or health care institution holding a license to operate a radio station under this part may operate a medical radio telemetry device with an output power not to exceed 20 milliwatts without specific authorization from the Commission. All licensees operating under this authority must comply with the requirements and limitations set forth in this section.

(9) Antennas of mobile stations used as fixed stations communicating with one or more associated stations located within degrees of azimuth shall be directional and have a front to back ratio of at least 15 dB.

(i) No limit shall be placed on the length or height above ground level of any commercially manufactured radiating transmission line when the transmission line is terminated in a non-radiating load and is routed at least 7 meters (20 feet) interior to the edge of any structure or is routed below ground level.

(ii) Sea-based stations may utilize antennas mounted not more than 7 meters (20 feet) above a man-made supporting structure, including antenna structures.

* * * * *

[FR Doc. 01-22439 Filed 9-11-01; 8:45 am]

BILLING CODE 6712-01-P